DEPARTMENT OF AGRICULTURE

Forest Service

Administrative Procedures for Processing Appeals Under 36 CFR, Part 215, for Projects or Activities Implementing Land and Resource Management Plans on National Forest System Lands

AGENCY: Forest Service, USDA.

ACTION: Notice of issuance of agency directive.

SUMMARY: The Forest Service is amending Forest Service Handbook 1509.12 to provide guidance to employees for processing appeals covered under Title 36, Code of Federal Regulations, part 215, involving projects or activities implementing land and resource management plans on National Forest System lands. The handbook provides direction on the authority, objectives, policies, and responsibilities of line officers and direction to field personnel on how to set up a notice and comment period, receive and record comments, provide information on decision notification, calculate appeal filing and time periods, process and dispose of an appeal, and instructions regarding the content and management of appeal records. This amendment is issued as amendment number 1509.12-2005-1 to FSH 1509.12.

DATES: This amendment is effective July 29, 2005.

ADDRESSES: Amendment 1509.12-2005-1 is available electronically from the Forest Service via the World Wide Web/Internet at http://www.fs.fed.us/im/directives. Single paper copies of the amendment are also available by contacting Dennis Roy, Ecosystem Management Coordination Staff, Mail Stop 1104, Forest Service, 1400 Independence Avenue, SW., Washington, DC 20250-1104 (telephone 202-205-2869).

FOR FURTHER INFORMATION CONTACT: Dennis Roy, Ecosystem Management Coordination Staff (202-205-2869).

SUPPLEMENTARY INFORMATION: A proposed rule and request for public comment to amend the rule adopted in 1994 for 36 CFR part 215 was published December 18, 2002. Its purpose was to clarify certain provisions and reduce complexity in the 1994 rule, improve efficiency of processing appeals, encourage early and effective public participation in the environmental analysis of projects and activities, and to ensure consistency with the provisions of the statutory authority. Approximately 25,000 comment letters were received. All comments were considered in development of a final appeal rule at 36 CFR part 215 and published in the Federal Register on June 4, 2003 (68 FR 33582). The final appeal rule included changes to address emergency situations; notice and comment procedures and time periods; substantive comments; who may appeal; Deciding Officers; content of an appeal; and the formal disposition process. This amendment to FSH 1509.12 describes administrative procedures for implementing provisions of the final rule.

Dated: June 28, 2005.
Christopher Pyron,
Acting Chief.

[FR Doc. 05-15063 Filed 7-28-05; 8:45 am]

BILLING CODE 3410-11-P